DEPARTMENT OF ENERGY

Federal Energy Regulatory Commission

[Project No. 2105-089]

Pacific Gas and Electric Company, P-233-081-CA; Notice of Extension of Time To Provide Comments on Draft Environmental Impact Statement

May 16, 2003.

On March 14, 2003, Commission staff made available to the public its draft Environmental Impact Statement (DEIS) on the proposed relicensing of the Pit 3, 4, 5 Hydroelectric Project, located in the Pit River Basin in Shasta County, California. The deadline for providing comments on the DEIS was established as May 21, 2003.

Notice is hereby given that the deadline for providing comments on the DEIS is extended to June 20, 2003.

Magalie R. Salas,
Secretary.

[FR Doc. 03-12917 Filed 5-21-03; 8:45 am]

BILLING CODE 6717-01-P